DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Monday, June 11, 2007 announcing the anticipated availability of funds for family planning services grants. On July 13, 2007, the Notice was corrected to reflect the availability of Arizona, Navajo Nation for competition. Since that time, an additional State/population/area to be served has become available for competition. This Notice reflects the availability of Illinois, Chicago area for competition.

FOR FURTHER INFORMATION CONTACT: Susan B. Moskosky, 240-453-2888.

Correction

In the Federal Register of June 11, 2007, FR Doc. 07-11183, on page 32113, correct Table I to read:

Table I
States/populations/areas to be served | Approximate funding available | Application due date | Approx. grant funding date
Region I: No service areas competitive in FY 2008.
Region II:
New York, New York City area | $4,209,000 | 03/01/08 | 07/01/08
New Jersey | 8,586,000 | 09/01/07 | 01/01/08
Region III:
Maryland | 3,957,000 | 12/01/07 | 04/01/08
Southeast Pennsylvania | 4,889,000 | 03/01/08 | 07/01/08
West Virginia | 2,169,000 | 12/01/07 | 04/01/08
Region IV:
Kentucky | 5,442,500 | 03/01/08 | 07/01/08
South Carolina | 5,767,000 | 03/01/08 | 07/01/08
Florida, Greater Miami area | 544,000 | 06/01/08 | 09/30/08
Region V:
Illinois, Chicago area | 205,000 | 06/01/08 | 09/30/08
Ohio, Central area | 709,500 | 11/01/07 | 03/01/08
Minnesota | 2,632,500 | 09/01/07 | 01/01/08
Region VI:
Arkansas | 3,341,000 | 11/01/07 | 03/01/08
Louisiana | 4,370,000 | 03/01/08 | 07/01/08
New Mexico | 2,835,000 | 09/01/07 | 01/01/08
Region VII:
Iowa | 2,531,500 | 03/01/08 | 07/01/08
Iowa | 1,061,500 | 06/01/08 | 09/30/08
Region VIII:
Montana | 1,970,000 | 03/01/08 | 07/01/08
Region IX:
Arizona | 4,080,500 | 09/01/07 | 01/01/08
Arizona, Navajo Nation | 658,900 | 03/01/08 | 07/01/08
California | 20,451,500 | 09/01/07 | 01/01/08
California, Los Angeles area | 472,000 | 09/01/07 | 01/01/08
Republic of the Marshall Islands | 190,500 | 03/01/08 | 07/01/08
Region X:
Alaska | 873,000 | 03/01/08 | 07/01/08

In addition, on page 32111, in the first column, under II. AWARD INFORMATION, please correct the second sentence to read, “Of this amount, OPA intends to make available approximately $81.9 million for competing Title X family planning services grant awards in 23 states, populations, and/or areas.”

Dated: October 2, 2007.
Evelyn M. Kappeler,
Acting Director, Office of Population Affairs.

[FR Doc. E7-19738 Filed 10-5-07; 8:45 am]

BILLING CODE 4150-34-P